DEPARTMENT OF COMMERCE

National Oceanic and Atmospheric Administration

50 CFR Part 622

RIN 0648-BN06

Fisheries of the Caribbean, Gulf of Mexico, and South Atlantic; Fishery Management Plans of Puerto Rico, St. Croix, and St. Thomas and St. John; Amendment 3

AGENCY: National Marine Fisheries Service (NMFS), National Oceanic and Atmospheric Administration (NOAA), Commerce.

ACTION: Announcement of availability of fishery management plan amendments; request for comments.

SUMMARY: The Caribbean Fishery Management Council (Council) had submitted Amendment 3 to the Fishery Management Plans (FMPs) for Puerto Rice, St. Croix, and St. Thomas and St. John (Amendment 3) for review, approval, and implementation by NMFS. If approved by the Secretary of Commerce, Amendment 3 would establish new management measures for dolphinfish (Coryphaena hippurus) and wahoo (Acanthocybium solandri) in U.S. Caribbean Federal waters, including commercial and recreational minimum size limits and recreational bag and possession limits. The purpose of Amendment 3 is to develop management measures to ensure dolphinfish and wahoo have adequate time to mature and reproduce and to take a precautionary approach to management to protect against overfishing.

DATES: Written comments on Amendment 3 must be received on or before November 5, 2024.

ADDRESSES: You may submit comments on Amendment 3, identified by “NOAA-NMFS-2024-0070”, by either of the following methods:

• Electronic Submission: Submit all electronic public comments via the Federal e-Rulemaking Portal. Visit https://www.regulations.gov and enter “NOAA-NMFS-2024-0070”, in the Search box. Click on the “Comment” icon, complete the required fields, and enter or attach your comments.

• Mail: Submit written comments to Sarah Stephenson, NMFS Southeast Regional Office, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

An electronic copy of Amendment 3, which includes a fishery impact statement, an environmental assessment, a regulatory impact review, and a Regulatory Flexibility Act (RFA) analysis, may be obtained from the Southeast Regional Office website at https://www.fisheries.noaa.gov/action/amendment-3-puerto-rico-st-croix-and-st-thomas-and-st-john-fishery-management-plans.

FOR FURTHER INFORMATION CONTACT: Sarah Stephenson, 727-824-5305, sarah.stephenson@noaa.gov.

SUPPLEMENTARY INFORMATION: NMFS, with the advice of the Council, manages the Puerto Rico, St. Croix, and St. Thomas and St. John fisheries in U.S. Caribbean Federal waters under the Puerto Rico, St. Croix, and St. Thomas and St. John FMPs. The Council prepared the FMPs, which the Secretary of Commerce approved, and NMFS implements the FMPs through regulations at 50 CFR part 622 under the authority of the Magnuson-Stevens Fishery Conservation and Management Act (Magnuson-Stevens Act).

Background

The Magnuson-Stevens Act requires NMFS and the regional fishery management councils to prevent overfishing and achieve, on a continuing basis, the optimum yield from federally managed fish stocks to ensure that fishery resources are managed for the greatest overall benefit to the Nation, particularly with respect to providing food production and recreational opportunities, and protecting marine ecosystems.

On September 22, 2020, the Secretary of Commerce approved the Puerto Rico, St. Croix, and St. Thomas and St. John FMPs under section 304(a)(3) of the Magnuson-Stevens Act. For Puerto Rico and the U.S. Virgin Islands (USVI), NMFS, with the advice of the Council, manages fisheries under the FMPs. NMFS published the final rule to implement the FMPs on September 13, 2022 (87 FR 56204). Each FMP contains management measures applicable for Federal waters in the respective island management area, including annual catch limits (ACLs), annual catch targets (ACTs), and accountability measures (AMs) for dolphinfish and wahoo. Federal waters around Puerto Rico extend seaward from 9 nautical miles (nmi) or 16.7 kilometers (km) from shore to the offshore boundary of the U.S. Caribbean exclusive economic zone (EEZ). Federal waters around St. Croix, and St. Thomas and St. John extend seaward from 3 nmi (5.6 km) from shore to the offshore boundary of the U.S. Caribbean EEZ.

Prior to implementation of the Puerto Rico, St. Croix, and St. Thomas and St. John FMPs, dolphinfish and wahoo were not federally managed in Federal waters in the U.S. Caribbean. Because of the economic importance of these fast-growing, short-lived pelagic species to the region, they were included for management under each of the Puerto Rico, St. Croix, and St. Thomas and St. John FMPs, even though, given their migratory nature, they are exposed to harvest pressure across a wide area of the Atlantic Ocean, the Gulf of Mexico, and the Caribbean Sea. While each FMP established ACLs, ACTs, and AMs for dolphinfish and wahoo, the FMPs did not establish other management measures often used to limit harvest or effort such as size limits, recreational bag limits, or commercial trip limits.

At its December 2021 meeting, the Council began discussions on management measures that could be used to address the increasing opportunity for the overharvest of juvenile dolphinfish as a result of the increasing influx and presence of Sargassum in the region. Sargassum is a type of floating brown algae that provides food, protection, and habitat for many marine species. The Sargassum mats are natural fish aggregating devices for dolphinfish and wahoo, including juveniles of each species, making them easier to locate and catch by fishermen. In addition, the lack of information available on the recreational harvest of dolphinfish and wahoo and the potential for excess harvest of the species to occur during recreational fishing trips is a concern.

The Puerto Rico, St. Croix, and St. Thomas and St. John FMPs did not include minimum size limits for dolphinfish or wahoo because these species were new to Federal management in the U.S. Caribbean. Amendment 3 would establish minimum size limits for dolphinfish and wahoo for all fishing in U.S. Caribbean Federal waters (commercial and recreational sectors) to address the potential for small-sized (i.e., juvenile) individuals of these species to be caught year-round. Dolphinfish and wahoo are usually seasonally-caught species, but the annual influx of Sargassum to the region increases the likelihood that smaller fish could easily be harvested. Although there currently is not a large market for smaller-sized dolphinfish or wahoo, such a fishery could develop in the future and the Council recommends being proactive in the management of these species. Protecting smaller-sized dolphinfish and wahoo increases the potential that they have enough time to reproduce before being harvested.

Currently, there are no recreational bag or possession limits for dolphinfish or wahoo for the same reasons noted above. Amendment 3 would establish recreational bag and possession limits for dolphinfish and wahoo to help regulate their harvest in U.S. Caribbean Federal waters by the recreational sector, for which catch and effort information are either limited or not available. While the Puerto Rico FMP established recreational sector ACLs and ACTs for dolphinfish and wahoo, the Marine Recreational Information Program that collected recreational data for Puerto Rico was suspended in 2017 and has not resumed to date. Recreational data were not collected for St. Croix or St. Thomas and St. John. As a result, neither the St. Croix FMP nor the St. Thomas and St. John FMP established sector-specific ACLs and ACTs for dolphinfish and wahoo. Though some catch information is available from recreational fishing tournaments that occur in Puerto Rico and the USVI, that information likely underrepresents the total number of dolphinfish or wahoo caught each year by the recreational sector. Thus, the number of recreational fishermen and the amount of dolphinfish or wahoo removed by the sector are largely unknown for the region. Setting recreational bag and possession limits for the recreational sector in Federal waters around Puerto Rico, St. Croix, and St. Thomas and St. John could reduce the chance of overfishing the resource, while allowing fishermen access to the species.

The proposed recreational bag and possession limits for dolphinfish would be more conservative than the recreational bag and possession limits that apply in Puerto Rico territorial waters, but consistent with the recreational bag and possession limits that apply in St. Croix, St. Thomas and St. John territorial waters. With respect to wahoo, the proposed recreational bag and possession limits would be consistent with the recreational bag and possession limits that apply in Puerto Rico territorial waters, but more conservative than the recreational bag and possession limits that apply in St. Croix, St. Thomas and St. John territorial waters. Compatible regulations make it easier for fishermen to comply with the regulations and for law enforcement to monitor compliance to the regulations.

During development of Amendment 3, the Council also considered actions to establish commercial trip limits for dolphinfish and wahoo. Because the commercial landings of dolphinfish and wahoo in each island management area have been less than the corresponding ACLs, the Council recommended that additional harvest constraints for the commercial sector were not needed at this time.

Actions Contained in Amendment 3

For dolphinfish and wahoo, Amendment 3 would establish commercial and recreational minimum size limits and recreational bag and possession limits in Federal waters around Puerto Rico, St. Croix, and St. Thomas and St. John.

Size Limits

Currently, no minimum size limits are in place for dolphinfish or wahoo in Federal waters around Puerto Rico, St. Croix, and St. Thomas and St. John. All sizes of dolphinfish or wahoo that are caught by commercial or recreational fishermen can be retained, though subject to the applicable ACLs and ACTs. For commercial and recreational fishing in the Federal waters around Puerto Rico, St. Croix, and St. Thomas and St. John, Amendment 3 would establish a 24 inches (61.0 centimeters (cm)) fork length (FL), minimum size limit for dolphinfish and a 32 inches (81.3 cm) FL, minimum size limit for wahoo. As described in Amendment 3, these minimum size limits are based on size at maturity information reported for each species in the U.S. Caribbean.

Recreational Bag Limits

Currently, no recreational bag or possession limits are in place for dolphinfish or wahoo in Federal waters around Puerto Rico, St. Croix, and St. Thomas and St. John. All dolphinfish or wahoo that are caught by recreational fishermen in U.S. Caribbean Federal waters during a recreational fishing trip can be retained, though subject to the applicable ACLs and ACTs. For Federal waters around Puerto Rico, Amendment 3 would establish a recreational bag and possession limit of 5 dolphinfish per person per day, not to exceed 15 dolphinfish per vessel per day, whichever is less and a recreational bag and possession limit of 5 wahoo per person per day, not to exceed 10 wahoo per vessel per day, whichever is less. For Federal waters around St. Croix and St. Thomas and St. John, Amendment 3 would establish recreational bag and possession limits of 10 dolphinfish per person per day, not to exceed 32 dolphinfish per vessel per day, whichever is less and recreational bag and possession limits of 2 wahoo per person per day, not to exceed 10 wahoo per vessel per day, whichever is less. As described in Amendment 3, these recreational bag and possession limits proposed for Federal waters are either consistent with, or more conservative than, current territorial bag limit regulations for dolphinfish and wahoo.

Proposed Rule for Amendment 3

A proposed rule to implement Amendment 3 has been drafted. In accordance with the Magnuson-Stevens Act, NMFS is evaluating the proposed rule to determine whether it is consistent with Amendment 3, the FMPs, the Magnuson-Stevens Act, and other applicable law. If that determination is affirmative, NMFS will publish the proposed rule in the Federal Register for public review and comment.

Consideration of Public Comments

The Council has submitted Amendment 3 for Secretarial review, approval, and implementation. Comments on Amendment 3 must be received by November 5, 2024. Comments received during the respective comment periods, whether specifically directed to Amendment 3 or the proposed rule will be considered by NMFS in the decision to approve, disapprove, or partially approve Amendment 3. Comments received after the comment periods will not be considered by NMFS in this decision. All comments received by NMFS on Amendment 3 or the proposed rule during their respective comment periods will be addressed in the final rule.

Authority: 16 U.S.C. 1801 et seq.

Dated: August 30, 2024.
Lindsay Fullenkamp,
Acting Director, Office of Sustainable Fisheries, National Marine Fisheries Service.

[FR Doc. 2024-19940 Filed 9-5-24; 8:45 am]

BILLING CODE 3510-22-P